NATIONAL SCIENCE FOUNDATION

Notice of Workshop on the Convergence of High Performance Computing, Big Data, and Machine Learning

AGENCY: Networking and Information Technology Research and Development (NITRD) National Coordination Office (NCO), National Science Foundation.

ACTION: Notice of Workshop.

SUMMARY: This workshop will focus on the R&D challenges of integrating high performance computing (HPC), big data (BD), and machine learning (ML) computing platforms to support the needs of an evolving scientific and technological landscape.

DATES: October 29-30, 2018.

FOR FURTHER INFORMATION CONTACT: Email hpc-bd-convergence@nitrd.gov or call Wendy Wigen at (202) 459-9683 or Ji Hyun Lee at (202) 459-9679. Individuals who use a telecommunications device for the deaf (TDD) may call the Federal Information Relay Service (FIRS) at 1-800-877-8339 between 8 a.m. and 8 p.m., Eastern time, Monday through Friday.

SUPPLEMENTARY INFORMATION:

Overview: This notice is issued by the Networking and Information Technology Research and Development (NITRD) National Coordination Office (NCO). Agencies of the High End Computing (HEC) and Big Data (BD) Interagency Working Groups are jointly conducting a workshop focused on the convergence of HPC, BD, and ML. Experts from government, private industry, and academia will help discuss the current use cases and the technology, tools and practices that are effective, and identify gaps and issues that will require additional research to resolve. The workshop will take place on October 29 from 8:15 a.m. to 5:00 p.m. ET and October 30 from 8:30 a.m. to 12:00 p.m. ET at the Natcher Conference Center, National Institutes of Health, Bethesda, MD. Participation is by invitation only, but observers are welcome on a first come first served basis. Space is limited, but this event will be webcast. The agenda and information about how to join the webcast will be available the week of the event at: https://www.nitrd.gov/nitrdgroups/index.php?title=HPC-BD-Convergence.

Workshop Goals: HEC and BD members will use information gathered from this workshop to inform their agency-specific research agendas.

Workshop Objectives: Identify and discuss: use cases and applications from a variety of domains; current activities to address the convergence challenge and the research and technologies that are still needed; strategies for combining the HPC, BD, and ML software and hardware ecosystems; strategies for combining the “people culture” of HPC, BD, and ML; and different modes of operation.

Submitted by the National Science Foundation in support of the Networking and Information Technology Research and Development (NITRD) National Coordination Office (NCO) on October 2, 2018.

Suzanne H. Plimpton,
Reports Clearance Officer, National Science Foundation.

[FR Doc. 2018-21720 Filed 10-4-18; 8:45 am]

BILLING CODE 7555-01-P